DEPARTMENT OF HEALTH AND HUMAN SERVICES

National Institutes of Health

National Institute of Environmental Health Sciences; Amended Notice of Meeting

Notice is hereby given of a change in the meeting of the National Institute of Environmental Health Sciences Special Emphasis Panel, December 10, 2002, 4 p.m. to December 10, 2002, 5 p.m., which was published in the Federal Register on November 6, 2002, FR 67: 67635.

The telephone conference call meeting will be held on January 14, 2003 at 2 p.m. instead of December 10, 2002, as previously advertised. The meeting is closed to the public.

Dated: December 20, 2002.
LaVerne Y. Stringfield,
Director, Office of Federal Advisory Committee Policy.

[FR Doc. 02-33031 Filed 12-30-02; 8:45 am]

BILLING CODE 4140-01-M